DEPARTMENT OF AGRICULTURE

Animal and Plant Health Inspection Service

9 CFR Part 93

[Docket No. 00-102-2]

Tuberculosis Testing for Imported Cattle

AGENCY: Animal and Plant Health Inspection Service, USDA.

ACTION: Interim rule and request for comments.

SUMMARY: We are amending the animal import regulations to require that an import permit be obtained for the importation of cattle from Mexico; to require certification regarding the tuberculosis history of the herds from which a group of cattle is assembled for export to the United States; to require information regarding each premises where cattle intended for export to the United States have resided; and to add a definition for herd of origin and revise the definitions of herd, official tuberculin test, and whole herd test. This action is necessary to help us better ensure that imported cattle are free of tuberculosis, thereby protecting against the spread of tuberculosis within the United States.

DATES: This interim rule is effective June 16, 2003. We will consider all comments that we receive on or before August 15, 2003.

ADDRESSES: You may submit comments by postal mail/commercial delivery or by e-mail. If you use postal mail/commercial delivery, please send four copies of your comment (an original and three copies) to: Docket No. 00-102-2, Regulatory Analysis and Development, PPD, APHIS, Station 3C71, 4700 River Road Unit 118, Riverdale, MD 20737-1238. Please state that your comment refers to Docket No. 00-102-2. If you use e-mail, address your comment to regulations@aphis.usda.gov. Your comment must be contained in the body of your message; do not send attached files. Please include your name and address in your message and “Docket No. 00-102-2” on the subject line.

You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Glen I. Garris, Senior Staff Officer, Assistant to the Associate Deputy Administrator, Animal Health Programs, VS, APHIS, 4700 River Road Unit 33, Riverdale, MD 20737-1231; (301) 734-5875.

SUPPLEMENTARY INFORMATION:

Background

The regulations in 9 CFR part 93 prohibit or restrict the importation of certain animals and birds into the United States to prevent the introduction of communicable diseases of livestock and poultry. Subpart D of part 93 (referred to below as the regulations) governs the importation of ruminants.

In an interim rule effective and published in the Federal Register on April 20, 2001 (66 FR 20187-20190, Docket No. 00-102-1), we amended the regulations to require that all cattle imported into the United States, except cattle imported for immediate slaughter, and except cattle from Canada, be tested twice with negative results for tuberculosis. (The interim rule provided that Canada would have the option of following the new requirements or the existing requirements in § 93.418.) These new requirements were located in amended § 93.406, and all previous tuberculosis testing requirements for imported cattle, except cattle from Canada, were removed.

We solicited comments concerning the interim rule for 60 days ending June 19, 2001. We received four comments by that date. The comments generally supported the establishment of more stringent tuberculosis testing requirements for cattle imported into the United States. Some of the commenters, however, expressed concern that the provisions of our interim rule were not stringent enough. Others suggested specific changes to the interim rule.

In this interim rule, we are making additional amendments to the regulations based on some of the comments we received. Specifically, this interim rule amends the regulations to require that an import permit be obtained for the importation of cattle from Mexico; to require certification regarding the tuberculosis history of the herds from which a group of cattle is assembled for export to the United States; to require information regarding each premises where cattle intended for export to the United States have resided; and to add a definition for herd of origin and revise the definitions of herd, official tuberculin test, and whole herd test. These changes are necessary to help us better ensure that imported cattle are free of tuberculosis, thereby protecting against the spread of tuberculosis within the United States. Our rationale for each of these changes is presented below in the discussion of the comments.

Cattle Imported from Canada

One commenter objected to the provision in the interim rule that allowed importers of cattle from Canada to import animals under either the requirements of the interim rule or the provisions of § 93.418, which were in place prior to the interim rule. Under the existing provisions in § 93.418, cattle from Canada may be imported without being quarantined in the United States or being held at the border for additional testing. The commenter recommended that cattle imported from Canada be subject to the same requirements as cattle from other foreign countries.

We are making no changes based on this comment at this time. However, we will review the status of Canada and other countries or regions regarding their approach to managing tuberculosis as part of a proposed rulemaking we intend to undertake regarding the importation of cattle into the United States. Currently, we consider the conditions in § 93.418 under which cattle may be imported from Canada into the United States to be adequate.

Reliable Testing

One commenter expressed concern about the reliability of the tuberculosis testing within Mexico and urged that such testing be reviewed by the U.S./Mexico Bi-National Tuberculosis Committee.

From our long history of cooperation with Mexico, we are confident that the tuberculosis testing protocols used in Mexican States for the export of cattle to the United States are reliable. Those testing protocols are reviewed by the U.S./Mexico Bi-National Tuberculosis Committee, which was created in 1994 to assist Mexico with its tuberculosis eradication efforts. Furthermore, in an effort to implement its tuberculosis eradication program, Mexico's Secretariat of Agriculture, Livestock, Rural Development, Fisheries, and Food (SAGARPA) conducts an annual review of testing procedures in Mexico. The eradication program has been successful to the point where there has been a reduction in the prevalence of tuberculosis in cattle in certain regions of Mexico.

Permit Requirement

One commenter stated that the Animal and Plant Health Inspection Service (APHIS) should hold SAGARPA accountable for the accuracy of certificates of origin issued in Mexico for cattle intended for export, and that APHIS should work with SAGARPA to ensure that certificates of origin are not endorsed by SAGARPA for cattle that originate from Mexican States that do not meet minimum standards equivalent to those for the “accreditation preparatory” classification in the United States. The commenter expressed concern that the process for disease risk classification of cattle in Mexico may be unreliable.

Mexican authorities have demonstrated that certificates of origin are issued in many Mexican States according to an assurance program equivalent to that applied in the United States. Under this program, all certificates of origin must be signed by an accredited veterinarian and endorsed by SAGARPA. APHIS and SAGARPA have been working together in an effort to identify and control the movement of cattle from Mexican States and regions that are at high risk of containing tuberculosis-infected animals to reduce the likelihood that these animals will be moved into the United States or into States in Mexico at lower risk of containing tuberculosis infected animals.

However, not all Mexican States have adopted and are implementing an eradication program. Therefore, APHIS is in the process of developing rulemaking that would create tuberculosis risk classifications for foreign regions that are equivalent to the domestic risk classifications that have been established in the United States. The requirements for importing cattle from a particular foreign region would be based on the level of tuberculosis risk in that region, as indicated by its risk classification.

In the meantime, we are removing § 93.424(a)(3), which waives the requirement of an import permit for cattle imported from Mexico. Importers of cattle from Mexico will be subject to the regulations in § 93.404, which require importers of cattle to first apply for and obtain from APHIS an import permit. On the application, the importer must include information regarding the type, number, and identification of the animals to be imported, and information on the origin, intended date and location of arrival, routes of travel, and destination of the animals.

As provided for in § 93.404(a)(3), an application for permit to import cattle may be denied because of:

• Communicable disease conditions in the area or region of origin, or in a region where the shipment has been or will be held or through which the shipment has been or will be transported;

• Deficiencies in the regulatory programs for the control or eradication of animal diseases and the unavailability of veterinary services in the region of origin or in a region where the cattle have been or will be held or through which the cattle have been or will be transported;

• The importer's failure to provide satisfactory evidence concerning the origin, history, and health status of the ruminants;

• The lack of satisfactory information necessary to determine that the importation will not be likely to transmit any communicable disease to livestock or poultry of the United States; or

• Any other circumstances which the Administrator believes require such denial to prevent the dissemination of any communicable disease of livestock or poultry into the United States.

• We are including Mexico among the countries for which a permit is needed to import cattle into the United States because we agree with the commenter that enough variation exists in the risk of importation of different types of cattle from different areas of Mexico to warrant an examination by APHIS of each individual request for importation.

Certification Requirements and Definitions of Whole Herd Test and Herd of Origin

Two commenters expressed concern that the interim rule did not include provisions that would enable APHIS to learn the full tuberculosis history of cattle to be imported and the herds they came from. One commenter recommended that, to be considered part of a herd, cattle should be required to be on common ground for at least 12 months, rather than 4 months as provided for in the interim rule. The commenter suggested that the 4-month provision might enable the assembly of a herd from multiple sources whose tuberculosis status is likely to be unknown, and allow the export of the animals before enough time passes to ensure the cattle are not infected. Another commenter suggested that whole herd test, as used in the regulations, be defined to include the testing of breeding cattle, to preclude such a test being administered to a group of feeder cattle but not their dams.

We agree with the commenters that it is important to know the tuberculosis history of the herds from which a group of cattle is assembled, and to be able to trace back the tuberculosis history of any animal intended for export to the United States far enough to ensure that the animal is not infected with the disease. To help ensure that this information accompanies cattle that are imported into the United States, we are making several changes in this interim rule as discussed below.

Under § 93.406(a)(2)(i) of the April 2001 interim rule, we required, among other things, that steers and spayed heifers intended for importation originate from a herd that tested negative to a whole herd test for tuberculosis within 1 year prior to the date of their exportation to the United States. In § 93.406(a)(2)(iii) of that interim rule, we required, among other things, that sexually intact cattle not from an accredited herd also originate from a herd that tested negative to a whole herd test for tuberculosis within 1 year prior to the date of exportation to the United States.

In § 93.400 of the April 2001 interim rule, we defined whole herd test as an official tuberculin test of all cattle in a herd that are 6 months of age or older, and of all cattle in the herd that are less than 6 months of age and were not born into the herd, except for certain cattle less than 6 months of age that met certain criteria in the definition. In the interim rule, herd was defined, in part, as “any group of one or more animals maintained for at least 4 months on common ground.” Therefore, according to the definitions in the interim rule, a “whole herd test” could be a test of a group of cattle that had been together for as little as 4 months.

To address the commenters' concerns that such a test might not give an adequate picture of the tuberculosis history of cattle intended for importation into the United States, in this interim rule we are requiring that the cattle described in § 93.406(a)(2)(i) and (iii) be accompanied by certification that the herd in which the cattle were born and raised has tested negative to a whole herd test. In the definitions in § 93.400, we are adding the term herd of origin to mean the herd within which an individual animal was born and raised and that was maintained on common ground for at least 4 months. To accommodate additions to the herd of origin, we are including in the definition of herd of origin certain language that was included in the April 2002 interim rule's definition of herd, but that, in this interim rule, we are removing from the definition of herd, as explained below. We are providing in the definition of herd of origin that, for a group of one or more animals to qualify as a herd of origin for the purposes of § 93.406, animals may be added to the herd during or after the 4-month qualifying period only if they: (1) Originated from a tuberculosis-free herd; or (2) originated from an accredited herd or originated from a herd of origin that tested negative to a whole herd test, and the individual cattle to be added to the herd also tested negative to any additional individual tests for tuberculosis required by the Administrator.

The herd of origin testing results must be included on the same import certificate already required under § 93.406(a). The certificate must be issued by a salaried veterinary officer of the national government of the region of origin, or, if the animals are exported from Mexico, either be such a certificate or one that is issued by a veterinarian accredited by the National Government of Mexico and endorsed by a full-time salaried veterinary officer of the National Government of Mexico.

We are also amending the definition of whole herd test to make it clear that the herd tested in a whole herd test is a herd of origin. Additionally, we are amending the definition of herd by removing the condition that the animals have been together for at least 4 months (as well as the language discussed above regarding additions to the herd during or after the 4-month qualifying period). The 4-month qualifying provision was included in the initial interim rule to increase the validity of the whole herd test of the herd from which the cattle originated. However, under this interim rule, we can better ensure that cattle to be imported into the United States are not infected with tuberculosis, even if they are exported as part of a herd that has been together for less than 4 months, by requiring negative tuberculosis results to a whole herd test of the herd in which the cattle were born and raised (the herd of origin).

To give us further information upon which to evaluate a request to import cattle, we are amending § 93.404(a), which describes, among other things, the process for applying for an import permit. Under the existing regulations, an application to import ruminants must include the region of origin of the animals. In this interim rule, we are adding the requirement that the application for an import permit include the address of, or other means of identifying, the premises of the herd of origin, including the State or its equivalent, the municipality or nearest city, and the specific location of the premises, or an equivalent method, approved by the Administrator, of identifying the location of the premises. This same information will be required regarding any other premises where the animals were held prior to export.

Definition of Official Tuberculin Test

One commenter observed that the wording of the definition of official tuberculin test in the April 2001 interim rule suggests that the test may be administered and reported by a non-veterinarian as long as he or she is a salaried official of the national government of the exporting region. The commenter recommended that the definition of official tuberculin test be revised to provide that the test is one that is administered and reported either by a veterinarian accredited by, or a salaried veterinarian of, the State or Federal government of the exporting region, rather than simply by a salaried official of the government of the exporting region. The commenter was particularly concerned that the official tuberculin test of Mexican cattle be administered and reported by a veterinarian accredited by SAGARPA or a salaried veterinarian of SAGARPA.

We agree that the change recommended by the commenter is appropriate and are revising the definition of official tuberculin test to provide that such a test is administered and reported by a full-time salaried veterinary officer of the national government of the region of origin, or administered and reported by a veterinarian designated or accredited by the national government of the region of origin and endorsed by a full-time salaried veterinary officer of the national government of the region of origin, representing that the veterinarian issuing the certificate was authorized to do so.

Miscellaneous

Additionally, we are adding language to § 93.406(c) to clarify that, under the existing regulations in § 93.427(a), cattle and other ruminants from Mexico may be detained at the port of entry for inspection, testing, disinfection, and dipping.

Emergency Action

This rulemaking is necessary on an emergency basis to help us better ensure that imported cattle are free of tuberculosis, thereby protecting against the spread of tuberculosis within the United States. Under these circumstances, the Administrator has determined that prior notice and opportunity for public comment are contrary to the public interest and that there is good cause under 5 U.S.C. 553 for making this rule effective less than 30 days after publication in the Federal Register.

We will consider comments we receive during the comment period for this interim rule (see DATES above). After the comment period closes, we will publish another document in the Federal Register. The document will include a discussion of any comments we receive and any amendments we are making to the rule as a result of the comments.

Executive Order 12866 and Regulatory Flexibility Act

This rule has been reviewed under Executive Order 12866. The rule has been determined to be not significant for the purposes of Executive Order 12866 and, therefore, has not been reviewed by the Office of Management and Budget.

This interim rule amends the animal import regulations to require that an import permit be obtained for the importation of cattle from Mexico; to require certification regarding the tuberculosis history of the herds from which a group of cattle is assembled for export to the United States; to require information regarding each premises where cattle intended for export to the United States have resided; and to add a definition for herd of origin and revise the definitions of herd, official tuberculin test, and whole herd test. This action is necessary to help us better ensure that imported cattle are free of tuberculosis, thereby protecting against the spread of tuberculosis within the United States.

This rule will produce substantial benefits for the U.S. livestock industry, as well as for individual livestock producers, both large and small, since it will help prevent, at little cost, the importation of tuberculosis-infected livestock into the United States, and will also enhance international trade in livestock. This action is not expected to result in an increase in cattle imports into the United States, since the rule, by requiring additional negative testing, is more restrictive than the current regulations.

The United States is a net importer of live cattle. From 1998 to 2000, almost all live animal imports into the United States were from Canada (about 53 percent) and Mexico (about 47 percent). In 2000 alone, the United States imported 2,191,019 head of cattle and calves, almost all of which were from Canada (968,435 head) and Mexico (1,222,569 head), valued at $1,152 million. Thus, between 1998 and 2000, U.S. live cattle trade essentially has been trade with Canada and Mexico, the U.S. partners to the North American Free Trade Agreement.

Over 99 percent of the imported animals were not for breeding. Almost half of all live animals imported to the United States were shipped for immediate slaughter; the remaining half were sent to designated feedlots. Nearly 98.3 percent of slaughter animals were from Canada, while about 92 percent of feeder animals were from Mexico. Of the total number of animals imported from Mexico in 2000, feeder and slaughter animal imports accounted for over 99 percent of the imports.

This interim rule does not change the import requirements for cattle imported from Canada. This situation is being evaluated separately.

However, slaughter and/or feeder cattle entering the United States from Mexico, where tuberculosis is a continuing problem, will be subject to the requirements of this interim rule, as will such cattle from any other country wishing to export to the United States. Breeding animals from any source other than Canada will continue to be tested for tuberculosis and other diseases at the port of entry and held either for 72 hours (if from Mexico) or for 30 days (if from any other country) until test results are known. Those animals will either be rejected entry or allowed entry depending upon the test results.

This rule is more restrictive than the current regulations and will produce economic benefits by preventing an incursion of tuberculosis into the United States and accelerating the eradication of the disease in this country. Counteracting the spread of disease from even one infected animal could prove very costly and cause serious economic damage to the livestock industry. The main effect of this rulemaking will be to prevent an incursion of tuberculosis into the United States, thus helping to avoid potentially serious economic damage to the U.S. cattle industry.

As this action simply introduces an additional precautionary requirement, it is not expected to result in an increase in the supply or cost of cattle imports into the United States. Any unlikely shortfall of supply could easily be met by domestic sources, without significantly affecting either producer or consumer price. It is not anticipated that any U.S. entities (importers, members of the public, or cattle producers) will experience significant economic effects as a result of this action. Foreign producers will cover any costs of additional testing and are unlikely to pass those costs along to importers and consumers due to the need to remain economically competitive in the U.S. livestock market.

Under these circumstances, the Administrator of the Animal and Plant Health Inspection Service has determined that this action will not have a significant economic impact on a substantial number of small entities.

Executive Order 12988

This rule has been reviewed under Executive Order 12988, Civil Justice Reform. This rule: (1) Preempts all State and local laws and regulations that are in conflict with this rule; (2) has no retroactive effect; and (3) does not require administrative proceedings before parties may file suit in court challenging this rule.

Paperwork Reduction Act

In accordance with section 3507(j) of the Paperwork Reduction Act of 1995 (44 U.S.C. 3501 et seq.), the information collection and recordkeeping requirements included in this interim rule have been submitted for emergency approval to the Office of Management and Budget (OMB). OMB has assigned control number 0579-0224 to the information collection and recordkeeping requirements.

We plan to request continuation of that approval for 3 years. Please send written comments on the 3-year approval request to the following addresses: (1) Office of Information and Regulatory Affairs, OMB, Attention: Desk Officer for APHIS, Washington, DC 20503; and (2) Docket No. 00-102-2, Regulatory Analysis and Development, PPD, APHIS, Station 3C71, 4700 River Road Unit 118, Riverdale, MD 20737-1238. Please state that your comments refer to Docket No. 00-102-2 and send your comments within 60 days of publication of this rule.

Under this interim rule, exporters of cattle from Mexico must apply for a permit to import cattle. Prior to this interim rule, certain cattle from Mexico were exempted from the requirement for an import permit. Exporters of cattle to the United States from countries for which an application for an import permit was already required under § 93.404 must add information to that application regarding the specific location of each premises that cattle to be imported into the United States have been on. Additionally, we are requiring certification regarding the tuberculosis history of the herds from which a group of cattle is assembled for export to the United States. This information is necessary to allow APHIS to determine if importation of the cattle should be allowed, or under what conditions, based on the disease situation in the areas in which the cattle have resided.

We are soliciting comments from the public, as well as from affected agencies, concerning our information and recordkeeping requirements. These comments will help us:

(1) Evaluate whether the proposed information collection is necessary for the proper performance of our agency's functions, including whether the information will have practical utility;

(2) Evaluate the accuracy of our estimate of the burden of the proposed information collection, including the validity of the methodology and assumptions used;

(3) Enhance the quality, utility, and clarity of the information to be collected; and

(4) Minimize the burden of the information collection on those who are to respond (such as through the use of appropriate automated, electronic, mechanical, or other technological collection techniques or other forms of information technology; e.g., permitting electronic submission of responses).

Estimate of burden: Public reporting burden for this collection of information is estimated to average 2 hours per response.

Respondents: Brokers and exporters of cattle to the United States, and accredited veterinarians or other veterinary authorities who issue export documentation for Mexico's Secretariat of Agriculture, Livestock, Rural Development, Fisheries, and Food.

Estimated annual number of respondents: 100.

Estimated annual number of responses per respondent: 75.

Estimated annual number of responses: 7,500.

Estimated total annual burden on respondents: 15,000 hours. (Due to averaging, the total annual burden hours may not equal the product of the annual number of responses multiplied by the reporting burden per response.)

Copies of this information collection can be obtained from Mrs. Celeste Sickles, APHIS' Information Collection Coordinator, at (301) 734-7477.

Government Paperwork Elimination Act Compliance

The Animal and Plant Health Inspection Service is committed to compliance with the Government Paperwork Elimination Act (GPEA), which requires Government agencies in general to provide the public the option of submitting information or transacting business electronically to the maximum extent possible. For information pertinent to GPEA compliance related to this proposed rule, please contact Mrs. Celeste Sickles, APHIS' Information Collection Coordinator, at (301) 734-7477.

List of Subjects in 9 CFR Part 93

Animal diseases, Imports, Livestock, Poultry and poultry products, Quarantine, Reporting and recordkeeping requirements.

Accordingly, we are amending 9 CFR part 93 as follows:

PART 93—IMPORTATION OF CERTAIN ANIMALS, BIRDS, AND POULTRY, AND CERTAIN ANIMAL, BIRD, AND POULTRY PRODUCTS; REQUIREMENTS FOR MEANS OF CONVEYANCE AND SHIPPING CONTAINERS

1. The authority citation for part 93 continues to read as follows:

Authority: 7 U.S.C. 1622 and 8301-8317; 21 U.S.C. 136 and 136a; 31 U.S.C. 9701; 7 CFR 2.22, 2.80, and 371.4.

2. Section 93.400 is amended as follows:

a. By revising the definitions of herd, official tuberculin test, and whole herd test to read as set forth below.

b. By adding, in alphabetical order, a definition of herd of origin to read as set forth below.

§ 93.400 Definitions.

* * * * *

Herd. Any group of one or more animals maintained on common ground; or two or more groups of animals under common ownership or supervision on two or more premises that are geographically separated, but among which there is an interchange or movement of animals.

Herd of origin. The herd within which an individual animal was born and raised and that was maintained on common ground for at least 4 months. For a group of one or more animals to qualify as a herd of origin for the purposes of § 93.406, animals may be added to the herd during or after the 4-month qualifying period only if they:

(1) Originated from a tuberculosis-free herd; or

(2) Originated from an accredited herd or originated from a herd of origin that tested negative to a whole herd test, and the individual cattle to be added to the herd also tested negative to any additional individual tests for tuberculosis required by the Administrator.

* * * * *

Official tuberculin test. A test for bovine tuberculosis that is approved by the Administrator as equivalent to the international standard test described in the Manual of Standards for Diagnostic Tests and Vaccines, Office International des Episodes, and that is administered and reported by a full-time salaried veterinary officer of the national government of the region of origin, or administered and reported by a veterinarian designated or accredited by the national government of the region of origin and endorsed by a full-time salaried veterinary officer of the national government of the region of origin, representing that the veterinarian issuing the certificate was authorized to do so.

* * * * *

Whole herd test. An official tuberculin test of all cattle in a herd of origin that are 6 months of age or older, and of all cattle in the herd of origin that are less than 6 months of age and were not born into the herd of origin, except those cattle that are less than 6 months of age and:

(1) Were born in and originated from a tuberculosis-free herd; or

(2) Were born in and originated from an accredited herd or originated from a herd of origin that has tested negative to a whole herd test, and the individual cattle have tested negative to any additional individual tests for tuberculosis required by the Administrator.

* * * * *

§ 93.404 [Amended]

3. In § 93.404, paragraph (a)(1), the second sentence is amended as follows:

a. By adding, immediately after the words “the region of origin;” the following phrase: “for cattle, the address of or other means of identifying the premises of the herd of origin and any other premises where the cattle resided prior to export, including the State or its equivalent, the municipality or nearest city, and the specific location of the premises, or an equivalent method, approved by the Administrator, of identifying the location of the premises;”.

b. By revising the OMB citation at the end of the section to read as follows: “[Approved by the Office of Management and Budget under control numbers 0579-0040 and 0579-0224]”.

4. Section 93.406 is amended as follows:

a. By revising paragraphs (a)(2)(i) and (a)(2)(iii) to read as set forth below.

b. In paragraph (c), by adding the words “or § 93.427” after the citation “§ 93.411”.

§ 93.406 Diagnostic tests.

(a) * * *

(2) Tuberculosis.

(i) For steers and spayed heifers, the cattle originated from a herd of origin that tested negative to a whole herd test for tuberculosis within 1 year prior to the date of exportation to the United States, and the animals each tested negative to an additional official tuberculin test conducted within 60 days prior to the date of exportation to the United States, and any individual cattle that had been added to the herd tested negative to any individual tests for tuberculosis required by the Administrator; or

* * * * *

(iii) For sexually intact cattle that are not from an accredited herd, the cattle originated from a herd of origin that tested negative to a whole herd test for tuberculosis within 1 year prior to the date of exportation to the United States, and the animals each tested negative to one additional official tuberculin test conducted no more than 6 months and no less than 60 days prior to the date of exportation to the United States, and any individual cattle that had been added to the herd tested negative to any individual tests for tuberculosis required by the Administrator, except that the additional test is not required if the animals are exported within 6 months of when the herd of origin tested negative to a whole herd test.

* * * * *

§ 93.424 [Amended]

5. Section 93.424 is amended as follows:

a. In paragraph (a)(1), the word “or” is added immediately after the semicolon.

b. In paragraph (a)(2), the word “; or” is removed and a period is added in its place.

c. Paragraph (a)(3) is removed.

Done in Washington, DC, this 10th day of June 2003.
Peter Fernandez,
Acting Administrator, Animal and Plant Health Inspection Service.

[FR Doc. 03-15113 Filed 6-13-03; 8:45 am]

BILLING CODE 3410-34-P